NATIONAL SCIENCE FOUNDATION

Committee of Visitors—Special Emphasis Panel for Integrative Activities; Notice of Meeting

In accordance with the Federal Advisory Committee Act (Pub. L. 92-463, as amended), the National Science Foundation announces the following meeting:

Name: Special Emphasis Panel for Integrative Activities (1373) Committee of Visitors.

Date/Time: May 2-3, 2001, 8:30 a.m.-5:30 p.m.; May 4, 2001, 8:30 a.m.-12:00 p.m.

Place: National Science Foundation, 4201 Wilson Blvd., Arlington, VA.

Type of Meeting: Partially closed.

Agenda:

May 2

8:00-11:00 Open; Program overview

11:00-4:30 Closed; Review of proposals, proposal processing

4:30-5:30 Open; Review of program results

May 3

8:30-10:15 Closed; Review of proposals, proposal processing

11:15-3:30 Open; Review of program results

3:30-5:30 Closed; Review of proposals, proposal processing

May 4

8:30-11:00 Closed; Review of proposals, proposal processing

11:00-12:00 Open; Presentation of findings

Contact: Patricia F. Goheen, Office of Integrative Activities, Room 1270, National Science Foundation, 4201 Wilson Blvd., Arlington, VA 22230; telephone (703) 292-8040.

Purpose of Meeting: The Committee of Visitors for the Faculty Early Career Development (CAREER) Program will meet to conduct a review of the process by which CAREER proposals are reviewed and the outcomes achieved by funded CAREER projects.

Reason for Closing: During closed sessions, the Committee of Visitors will examine proposals that include information of a proprietary or confidential nature, including technical information; financial data, such as salaries; and personal information concerning individuals associated with the proposals. These matters are exempt under 5 U.S.C. 552b(c) (4) and (6) of the Government in the Sunshine Act.

Dated: April 10, 2001.
Susanne Bolton,
Committee Management Officer.

[FR Doc. 01-9202 Filed 4-12-01; 8:45 am]

BILLING CODE 7555-01-M